DEPARTMENT OF ENERGY

Federal Energy Regulatory Commission

[Docket No. RP03-342-003]

Questar Pipeline Company; Notice of Tariff Filing

September 24, 2003.

Take notice that on September 22, 2003, Questar Pipeline Company (Questar) tendered for filing as part of its FERC Gas Tariff, First Revised Volume No. 1, Substitute Second Revised Sheet No. 86, to be effective May 12, 2003.

Questar states that this filing is being made to make a minor administrative correction relating to Questar's two tariff filings dated April 14, 2003, and April 29, 2003, filed in Docket Nos. RP03-342-000 and-001, respectively, that modified Questar's measurement section of its tariff. This filing deletes language that was intended to be deleted in Docket No. RP03-342-001 upon discovery that the North American Energy Standards Board (NAESB) Standard 2.3.9 was inadvertently deleted in Docket No. RP03-342-000 and replaced by a new paragraph.

Questar states that it filed an amendment to reverse this replacement, but only half of the incorrect paragraph was deleted. Questar states that this filing continues that correction by deleting the remaining part of the paragraph that is redundant in purpose to NAESB Standard 2.3.9.

Questar states that a copy of this filing has been served upon its customers, the Public Service Commission of Utah and the Public Service Commission of Wyoming.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary (FERRIS) link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the eFiling link.

Protest Date: October 6, 2003.

Magalie R. Salas,
Secretary.

[FR Doc. 03-24643 Filed 9-26-03; 8:45 am]

BILLING CODE 6717-01-P